MARINE MAMMAL COMMISSION

Sunshine Act Meeting

Time and Date: The Marine Mammal Commission and its Committee of Scientific Advisors on Marine Mammals will meet in executive session on Tuesday, 8 October 2002, from 8:00 a.m. to 9:15 a.m. The public sessions of the Commission and the Committee meeting will be held on Tuesday, 8 October 2002, from 9;30 a.m. to 5:30 p.m., on Wednesday, 9 October 2002, from 8:15 a.m. to 5:15 p.m., and on Thursday, 10 October 2002, from 8;15 a.m. to 12:30 p.m.

Place: Town and Country Resort & Convention Center, 500 Hotel Circle, San Diego CA 92108; phone, 619-291-7131; fax: 619-291-3584.

Status: The executive session will be closed to the public. At it, matters relating to international negotiations in process, personnel, and the budget of the Commission will be discussed. All other portions of the meeting will be open to public observation. Public participation will be allowed as time permits and as determined to be desirable by the Chairman.

Matters to Be Considered: The Commission and Committee will meet in public session to discuss a broad range of marine mammal matters. While subject to change, major issues that the Commission plans to consider at the meeting include activities involving the International Whaling Commission; issues related to the incidental take of dolphins in the eastern tropical Pacific tuna fishery; the status of the vaquita in the Gulf of California; the gray whale stocks in the eastern and western Pacific Ocean; sea otters in California, the Pacific Northwest and Alaska waters; killer whale stocks; issues related to the Hawaiian Islands; and fisheries and other human interactions with pinnipeds.

FOR FURTHER INFORMATION CONTACT: Robert H. Mattlin, Executive Director, Marine Mammal Commission, 4340 East-West Highway, Room 905, Bethesda, MD 20814, 301-504-0087.

Dated: August 30, 2002.
Robert H. Mattlin,
Executive Director.

[FR Doc. 02-22848 Filed 9-4-02; 8:45 am]

BILLING CODE 6820-31-M